NUCLEAR REGULATORY COMMISSION

10 CFR Part 26

[Docket No. PRM-26-7; NRC-2011-0220]

Certification of Substance Abuse Experts

AGENCY: Nuclear Regulatory Commission.

ACTION: Petition for rulemaking; consideration in the rulemaking process.

SUMMARY: The U.S. Nuclear Regulatory Commission (NRC or the Commission) will consider in the rulemaking process the issues raised in the petition for rulemaking (PRM), PRM-26-7, submitted by the American Academy of Health Care Providers in the Addictive Disorders (the Academy or the petitioner). The petitioner requested that the NRC amend its regulations to include the Academy as one of the organizations authorized to certify a substance abuse expert. The NRC determined that the issues raised in the PRM are appropriate for consideration and will consider them in the ongoing Title 10 of the Code of Federal Regulations (10 CFR) Part 26 Technical Issues rulemaking.

DATES: The docket for the petition for rulemaking, PRM-26-7, is closed on June 7, 2012.

ADDRESSES: Further NRC action on the issues raised by this petition will be accessible on the Federal rulemaking Web site, http://www.regulations.gov, by searching on Docket ID NRC-2012-0079, which is the rulemaking docket for the 10 CFR part 26 Technical Issues rulemaking.

You can access publicly available documents related to the petition, which the NRC possesses and are publicly available, using the following methods:

• Federal Rulemaking Web Site: Supporting materials related to this petition can be found at http://www.regulations.gov by searching on the Docket IDs for PRM-26-7 or the 10 CFR part 26 Technical Issues rulemaking, NRC-2011-0220 and NRC-2012-0079, respectively. Address questions about NRC dockets to Carol Gallagher, telephone: 301-492-3668, email: Carol.Gallagher@nrc.gov.

• NRC's Public Document Room (PDR): You may examine and purchase copies of public documents at the NRC's PDR, O1-F21, One White Flint North, 11555 Rockville Pike, Rockville, Maryland 20852.

• NRC's Agencywide Documents Access and Management System (ADAMS): You may access publicly available documents online in the NRC Library at http://www.nrc.gov/reading-rm/adams.html. To begin the search, select “ADAMS Public Documents” and then select “Begin Web-based ADAMS Search.” For problems with ADAMS, contact the NRC's PDR reference staff at 1-800-397-4209, 301-415-4737, or by email to PDR.Resource@nrc.gov. The ADAMS accession number for each document referenced in this notice (if that document is available in ADAMS) is provided the first time that a document is referenced.

FOR FURTHER INFORMATION CONTACT: Paul Harris, Office of Nuclear Security and Incident Response, U.S. Nuclear Regulatory Commission, Washington, DC 20555; telephone: 301-415-1169; email: Paul.Harris@nrc.gov; or Scott C. Sloan, Office of Nuclear Reactor Regulation, U.S. Nuclear Regulatory Commission, Washington, DC 20555; telephone: 301-415-1619; email: Scott.Sloan@nrc.gov.

SUPPLEMENTARY INFORMATION: On October 5, 2011 (76 FR 61625), the NRC published a notice of receipt (76 FR 61625) for PRM-26-7. The petitioner requested the NRC to amend its regulations under 10 CFR 26.187(b)(5) to include the Academy as one of the organizations authorized to certify a substance abuse expert.

The NRC received one comment during the public comment period (ADAMS Accession No. ML11341A064), which closed on December 19, 2011. The commenter, a student pursuing a master's degree in social work, provided a statement in support of the Academy's request to amend the NRC's regulations. The commenter stated that by “amending the NRC's regulations to include the Academy as an authorized organization to certify substance abuse experts, more individuals can become qualified to provide addiction counseling. This would hopefully reduce the number of under qualified care providers and ensure that the clients are receiving the highest level of care.”

The NRC determined that the issues raised in PRM-26-7 are appropriate for consideration and will address them in the ongoing 10 CFR part 26 Technical Issues rulemaking. Docket No. PRM-26-7 is closed.

Dated at Rockville, Maryland, this 17th day of May 2012.
For the Nuclear Regulatory Commission.
R.W. Borchardt,
Executive Director for Operations.

[FR Doc. 2012-13807 Filed 6-6-12; 8:45 am]

BILLING CODE 7590-01-P